FEDERAL MEDIATION AND CONCILIATION SERVICE

Notice of Fee Increase for Arbitration Services

AGENCY: Federal Mediation and Conciliation Service (FMCS).

ACTION: Notice.

SUMMARY: The Federal Mediation and Conciliation Service (FMCS), is issuing this notice to inform the public that it will increase fees associated with its arbitration services.

DATES: Fee increases will begin on October 1, 2023.

FOR FURTHER INFORMATION CONTACT: Arthur Pearlstein, Federal Mediation and Conciliation Service, One Independence Square, 250 E St. SW, Washington, DC 20427; arbitration@fmcs.gov.

SUPPLEMENTARY INFORMATION:

I. Background

Pursuant to FMCS's enabling statutes, 29 U.S.C. 172 and 173, and 29 CFR part 1404, FMCS has long maintained a roster of qualified, private labor arbitrators to hear disputes arising under collective bargaining agreements and provide fact finding and interest arbitration. 29 U.S.C. 173(f) authorizes FMCS to establish and collect fees for arbitration services.

II. Discussion

FMCS periodically reviews its arbitration program to access its efficiency. FMCS's last review occurred in 2019, which resulted in updating its arbitration regulations and a modest increase in user fees that had previously remained unchanged for more than eight years prior. FMCS has conducted a similar review and determined that the current user fees require additional adjustment to attain full-cost recovery for FMCS's arbitration services.

The following fees for FMCS's arbitration services will change:

• Annual listing fee for arbitrators who have completed less than 5 years on the Roster: Change from $150 to $200 for first address, Change from $50 to $75 for each additional address.

• Annual listing fee for arbitrators who have completed 5 or more years on the Roster: Change from $250 to $300 for first address and change from $100 to $125 for each additional address.

• A Request for a Panel of arbitrators (up to 7) processed online: Change from $35 to $100.

• Request for Panel of arbitrators (up to 13) processed manually by FMCS staff: Change from $70 to $175.

• Request for List of arbitrators (up to 13) processed manually by FMCS staff: Change from $35 to $175.

• Direct manual appointment of an arbitrator when a panel is not used: Change from $30 to $100.

As a reminder, payment is through Pay.gov at http://www.pay.gov which includes payment by debit, credit card, or electronic funds transfer (e-check). Although an electronic payment is preferred, if Pay.gov submission creates an undue hardship, payees may contact payments@fmcs.gov to explain the circumstances and receive assistance.

FMCS will continue to review the user fees periodically and will revise it as necessary. Any changes in the fees and their effective date will be announced in the Federal Register.

Dated: July 28, 2023.
Anna Davis,
General Counsel.

[FR Doc. 2023-16431 Filed 8-1-23; 8:45 am]

BILLING CODE 6732-01-P